DEPARTMENT OF LABOR

Employment and Training Administration

[TA-W-85,821A]

Maverick Tube Corporation; a Subsidiary of Tenaris S.A.; Houston, Texas; Amended Certification Regarding Eligibility To Apply for Worker Adjustment Assistance

In accordance with Section 223 of the Trade Act of 1974, as amended (“Act”), 19 U.S.C. 2273, the Department of Labor issued a Certification of Eligibility to Apply for Worker Adjustment Assistance on March 18, 2015, applicable to workers of Maverick Tube Corporation dba TenarisConroe, a subsidiary of Tenaris S.A., including on-site leased workers from TESIS Automation and Janus Automation, Conroe, Texas. The Department's Notice of Determination was published in the Federal Register on April 13, 2015 (80 FR 19691).

At the request of a State Workforce Official, the Department reviewed the certification for workers of the subject firm. The workers were engaged in the production of oil country tubular goods.

The investigation confirmed that worker separations from Maverick Tube Corporation, Houston, Texas are attributable to the increased imports that were the basis for the original certification. The worker group includes workers at the following locations: 2200 West Loop South, Suite 800, Houston, Texas 77027; 8204 Fairbanks N Houston Road, Houston, Texas 77064; and 302 McCarty Street, Houston, Texas 77029.

The amended notice applicable to TA-W-85,821 is hereby issued as follows:

“All workers of Maverick Tube Corporation dba TenarisConroe, a subsidiary of Tenaris S.A., including on-site leased workers from TESIS Automation and Janus Automation, Conroe, Texas (TA-W-85,821) and Maverick Tube Corporation, a subsidiary of Tenaris S.A., Houston, Texas (TA-W-85,821A) who became totally or partially separated from employment on or after February 2, 2014 through March 18, 2017, are eligible to apply for adjustment assistance under Chapter 2 of Title II of the Trade Act of 1974, as amended, and are also eligible to apply for alternative trade adjustment assistance under Section 246 of the Trade Act of 1974, as amended.”

Signed in Washington, DC this 20th day of May, 2015.
Del Min Chen,
Certifying Officer, Office of Trade Adjustment Assistance.

[FR Doc. 2015-19716 Filed 8-10-15; 8:45 am]

BILLING CODE 4510-FN-P